DEPARTMENT OF LABOR

Employment and Training Administration

Investigations Regarding Certifications of Eligibility to Apply for NAFTA Transitional Adjustment Assistance

Petitions for transitional adjustment assistance under the North American Free Trade Agreement-Transitional Adjustment Assistance Implementation Act (P.L. 103-182), hereinafter called (NAFTA-TAA), have been filed with state governors under Section 250(b)(1) of Subchapter D, Chapter 2, Title II, of the Trade Act of 1974, as amended, are identified in the Appendix to this Notice. Upon notice from a Governor that a NAFTA-TAA petition has been received, the Director of the division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of P.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than July 9, 2001.

Also, interested persons are invited to submit written comments regarding the subject matter of the petitions to the Director of DTAA at the address shown below not later than July 9, 2001.

Petitions filed with the Governors are available for inspection at the Office of the Director, DTAA, ETA, DOL, Room C-5311, 200 Constitution Avenue, NW., Washington, DC 20210.

Dated: Signed at Washington, DC this 8th day of June, 2001.
Edward A. Tomchick,
Director, Division of Trade Adjustment Assistance.

Appendix
Subject firm | Location | Date received at governor's office | Petition No. | Articles produced
Telect (Co.) | Liberty Lake, WA | 05/11/2001 | NAFTA-4,853 | telecommunication cable.
Midcom (Wkrs) | Aberdeen, SD | 05/11/2001 | NAFTA-4,854 | electronic transformers.
Price Pfister—Black and Decker (Co.) | Pacomia, CA | 05/10/2001 | NAFTA-4,855 | faucets.
Fiera (Wkrs) | Miami, FL | 05/11/2001 | NAFTA-4,856 | ventas por internet.
Garrin Logging (Wkrs) | Redmond, OR | 05/03/2001 | NAFTA-4,857 | logs and lumber.
Blue Cast Denim (Wkrs) | El Paso, TX | 05/11/2001 | NAFTA-4,858 | women's jeans.
Motion Control Industries (Wkrs) | Nampa, ID | 05/09/2001 | NAFTA-4,859 | spring brakes.
D and G Investment (Wkrs) | El Paso, TX | 05/11/2001 | NAFTA-4,860 | jean pants.
Sonnel International (Wkrs) | Houston, TX | 05/10/2001 | NAFTA-4,861 | printed circuit boards.
Untech Environmental (Co.) | Denver, CO | 04/30/2001 | NAFTA-4,862 | chemicals and equipment.
Vapor Corporation (Co.) | Niles, IL | 05/08/2001 | NAFTA-4,863 | railroad cars and equipment.
Bemis Company (Co.) | Vancouver, WA | 05/08/2001 | NAFTA-4,864 | multiwall paper bags.
Portable Products Energy (Co.) | Scotts Valley, CA | 05/10/2001 | NAFTA-4,865 | non spillable lead acid batteries.
Case Corporation (IAMAW) | Fargo, ND | 05/11/2001 | NAFTA-4,866 | air systems.
Horman Industrial—GE Harris Harmon (Co.) | Jacksonville, FL | 05/08/2001 | NAFTA-4,867 | railroad signaling equipment.
Flextronics Binghamton (Co.) | Conklin, NY | 05/09/2001 | NAFTA-4,868 | printed circuit boards.
Nypro Oregon (Wkrs) | Corvallis, OR | 05/07/2001 | NAFTA-4,869 | plastic parts.
Berne Apparel (Wkrs) | Portland, IN | 05/04/2001 | NAFTA-4,870 | coveralls.
Fiskers Consumer Products (Co.) | North, SC | 05/08/2001 | NAFTA-4,871 | sheathes and bags for tools.
C and D Technologies (Co.) | Tucson, AZ | 05/08/2001 | NAFTA-4,872 | electronic components.
Hart, Schaffner and Mar (Wkrs) | Farmington, MO | 05/11/2001 | NAFTA-4,873 | men's suit pants.
Leggett and Platt (Wkrs) | Forest City, NC | 05/09/2001 | NAFTA-4,874 | furniture (carseats, chair arms).
Drexel Heritage Furnishings (Co.) | Morganton, NC | 05/09/2001 | NAFTA-4,875 | residential furniture.
Jackets (Wkrs) | Magazine, AR | 05/10/2001 | NAFTA-4,876 | jackets
Corning Frequency Control (Co.) | Carlisle, PA | 05/15/2001 | NAFTA-4,877 | precision crystal resonators.
Dairy Farmers of America (Wkrs) | Ferus Falls, MN | 05/14/2001 | NAFTA-4,878 | cheese.
Maverick Tube (Co.) | Beaver Falls, PA | 05/15/2001 | NAFTA-4,879 | cold drawn tubular.
Southern Glove (Co.) | Mountain City, TN | 04/25/2001 | NAFTA-4,880 | glove.
Honeywell International (UAW) | Nevada, MO | 05/15/2001 | NAFTA-4,881 | radial steel line.
Ametek (Wkrs) | Graham, NC | 05/15/2001 | NAFTA-4,882 | AC electric motors.
Motorola, Inc. (Co.) | Plantation, FL | 05/15/2001 | NAFTA-4,883 | Electronic Communication Devices.
Copper Eagle Hosiery, Inc (Wkrs) | Hildebran, NC | 05/16/2001 | NAFTA-4,884 | Socks.
Continental Industries (Co.) | Mesa, AZ | 05/15/2001 | NAFTA-4,885 | Sold State Relays.
Crowntex (Wkrs) | Wrightsville, GA | 05/09/2001 | NAFTA-4,886 | Men's Slacks.
Siemens Automotive Corp (Co.) | Johnson City, TN | 05/16/2001 | NAFTA-4,887 | Air Bag Controls.
Imperial Home Decor Group (Wkrs) | Plattsburgh, NY | 05/10/2001 | NAFTA-4,888 | wallpaper.
Quebecor World (GCIU) | Salem, IL | 05/16/2001 | NAFTA-4,889 | Magazines, Catalogs.
Bayer Corp. (USWA) | Elkhart, IN | 05/16/2001 | NAFTA-4,890 | Alka Seltzer, Alka Seltzer Plus, Vitamin.
WCI Outdoor Products (Co.) | Swainsboro, GA | 05/16/2001 | NAFTA-4,891 | Cloth Grass Catchers.
Acadia Polymers (Co.) | Paragould, AR | 05/17/2001 | NAFTA-4,892 | Rubber Bushings.
Kimberly Clark (Wkrs) | Conway, AR | 05/17/2001 | NAFTA-4,893 | Femining and Adult care Pads.
Midwest Tanning Co. (Co.) | South Milwaukee, WI | 05/16/2001 | NAFTA-4,894 | Finished Leather.
Northern Engraving Corp (Wkrs) | Galesville, WI | 04/11/2001 | NAFTA-4,895 | Decals for Automobiles, Boats.
Acordis Cellulosic Fibers (Co.) | Axis, AL | 05/17/2001 | NAFTA-4,896 | Staple Fiber.
Komatsu Mining System, Inc (IBB) | Peoria, IL | 05/16/2001 | NAFTA-4,897 | Power Grids.
Fansteel (Co.) | Addison, IL | 05/17/2001 | NAFTA-4,898 | Commercial Castings.
Heckett Multi Serv (Wkrs) | Kansas City, MO | 05/18/2001 | NAFTA-4,899 | flat rolled steel.
Decorative Components, Inc (Co.) | Bangor, MI | 05/15/2001 | NAFTA-4,900 | Chrome Plated Parts.
Carolina Mills (Wkrs) | Lincolnton, NC | 05/18/2001 | NAFTA-4,901 | Fabrics
American Lumber Co (Co.) | Union City, PA | 05/18/2001 | NAFTA-4,902 | Hardwood Lumber.
Mowad Apparel, Inc (Co.) | El Paso, TX | 05/21/2001 | NAFTA-4,903 | Denim Pants and Skirts.
Illinois Tool Works (Co.) | Austin, TX | 05/21/2001 | NAFTA-4,904 | Recycles PVC Pipe.
Anderson Electrical Products (Co.) | Elkton, TN | 05/21/2001 | NAFTA-4,905 | Aluminum Molding.
Savannah Luggage Works (Co.) | Vadalia, GA | 05/18/2001 | NAFTA-4,906 | Luggage.
General Cable Corp. (USWA) | Cass City, MI | 05/21/2001 | NAFTA-4,907 | Communication Wire and Cable.
Gunite Corp (Wrks) | Erie, PA | 05/21/2001 | NAFTA-4,908 | Wheels and Hubs.
Cutting Edge Texstyles (UNITE) | Boston, MA | 05/14/2001 | NAFTA-4,909 | Bias Tape.
Shieldalloy Metallurgical Corp (UAW) | Newfield, NJ | 05/14/2001 | NAFTA-4,910 | Aluminum Alloys and Bearing Alloys.
Computrex, Inc. (Co.) | Nicholasville, KY | 05/22/2001 | NAFTA-4,911 | Data Entry.
Neely Manufacturing (Co.) | Smithville, TN | 05/21/2001 | NAFTA-4,912 | Children's Knit Shirts & Fleece Garments.
Americ Disc, Inc. (Wrks) | Clinton, TN | 05/21/2001 | NAFTA-4,913 | CD Replication.
Boss Industries (Wkrs) | Erie, PA | 05/24/2001 | NAFTA-4,914 | plastic injection molds.
Equitable Resources (Wkrs) | Prestonsburg, KY | 05/22/2001 | NAFTA-4,915 | natural gas & crude oil.
Hoover Precision Products (IAMAW) | Washington, IN | 05/29/2001 | NAFTA-4,916 | steel balls.
Pratt and Whitney (Co.) | Grand Prairie, TX | 05/30/2001 | NAFTA-4,917 | transportation equipment.
Aavid Thermalloy (Co.) | Dallas, TX | 05/29/2001 | NAFTA-4,918 | semi-conductor acessories.
Johnson Electric Automatic Motors (Co.) | Columbus, MS | 05/24/2001 | NAFTA-4,919 | dc motors.
Triple O (Co.) | Roseburg, OR | 06/01/2001 | NAFTA-4,920 | lumber.
Findlay Industries (Wkrs) | Botkins, OH | 05/30/2001 | NAFTA-4,921 | cloth and leather seat covers.
GE Marquette Medical Systems Corometrics (IBT) | Wallingford, CT | 05/17/2001 | NAFTA-4,922 | medical equipment.
Corning Frequency Control (Wkrs) | Mt. Holly Springs, PA | 06/01/2001 | NAFTA-4,923 | crystal oscillators.
Madill Equipment USA (Wkrs) | Kalama, WA | 05/21/2001 | NAFTA-4,924 | heavy equipment for logging.
Fernbrook and Company (Wkrs) | Palmerton, PA | 05/31/2001 | NAFTA-4,925 | men's, women's and children's clothing.
C and J Specialties (Co.) | Dallas, NC | 05/31/2001 | NAFTA-4,926 | t-shirts, shorts, athletic wear.
Flynt Fabrics (Co.) | Graham, NC | 05/31/2001 | NAFTA-4,927 | knitted fabric.
Ark Les Electronic Products (Co.) | Gloucester, MA | 05/23/2001 | NAFTA-4,928 | membrase switches.
Sohnen Enterprises (Wkrs) | Santa Fe Springs, CA | 05/16/2001 | NAFTA-4,929 | electronic products.
Jarrett Lumber and Logging (Wkrs) | Bristol, TN | 05/29/2001 | NAFTA-4,930 | logs and lumber.
MCMS (Wkrs) | Nampa, ID | 05/26/2001 | NAFTA-4,931 | circuit board.
Kentucky Electric Steel (Co.) | Ashland, KY | 05/25/2001 | NAFTA-4,932 | steel bars.
Newbold Corporation (Co.) | Rocky Mount, VA | 05/31/2001 | NAFTA-4,933 | manual printers for credit card infor.
Cooper Industries (Co.) | Apex, NC | 05/31/2001 | NAFTA-4,934 | measures.
Tyco International (Wkrs) | White City, OR | 05/30/2001 | NAFTA-4,935 | printed circuit boards.
Sportswear USA (Co.) | Wallace, NC | 05/31/2001 | NAFTA-4,936 | boys suits, blazers, pants and vests.
Jordana (Co.) | Medley, FL | 06/04/2001 | NAFTA-4,937 | ladies sportswear.
Alcoa Fujikura Ltd. (Co.) | El Paso, TX | 05/30/2001 | NAFTA-4,938 | electrical wiring for automobiles.
Sun Studs (Co.) | Roseburg, OR | 05/31/2001 | NAFTA-4,939 | veneer and plywood.
Bradford Electronics (Co.) | Bradford, PA | 05/22/2001 | NAFTA-4,940 | film resistors.
Ocello (Co.) | Richland, PA | 05/24/2001 | NAFTA-4,941 | men's, women's & children's knit shirts.
Allied Vaughn (Wkrs) | Clinton, TN | 05/25/2001 | NAFTA-4,942 | video cassette duplication.
Akzo Nobel Aerospace Coatings (Co.) | Brownsville, TX | 03/31/2001 | NAFTA-4,943 | paint products.
Santtony Wear (Co.) | Rockingham, NC | 05/29/2001 | NAFTA-4,944 | ladies undergarments.
Thomas and Betts (Co.) | Vidalia, GA | 05/31/2001 | NAFTA-4,945 | safety switches, meter centers.
Honeywell (Wkrs) | Burkesville, KY | 05/25/2001 | NAFTA-4,946 | oil coolers.
Huck Fasteners (Wkrs) | Altoona, PA | 05/31/2001 | NAFTA-4,947 | cold headed, threaded fasteners.
Pillowtex Fieldcrest Cannon (UNITE) | Kannapolis, NC | 05/31/2001 | NAFTA-4,948 | home furnishings.
Z and Z Logging (Wkrs) | Mt. Hood, OR | 05/21/2001 | NAFTA-4,949 | lumber.
Ucar Cabron (IUOE) | Columbia, TN | 05/29/2001 | NAFTA-4,950 | graphite electrodes.
Celanese Acetate (UNITE) | Rock Hill, SC | 06/05/2001 | NAFTA-4,951 | acetate filament.
Atlantic Wire and Cable (Co.) | College Pt., NY | 06/04/2001 | NAFTA-4,952 | copper wire.
General Electric (Co.) | Bucyrus, OH | 04/06/2001 | NAFTA-4,953 | fluorescent lamps

[FR Doc. 01-16073 Filed 6-26-01; 8:45 am]

BILLING CODE 4510-30-M